COMMITTEE FOR PURCHASE FROM PEOPLE WHO ARE BLIND OR SEVERELY DISABLED

Procurement List: Proposed Additions and Deletions

AGENCY: Committee for Purchase From People Who are Blind or Severely Disabled.

ACTION: Proposed additions to and deletions from the Procurement List.

SUMMARY: The Committee is proposing to add a product and service to the Procurement List that will be furnished by nonprofit agencies employing persons who are blind or have other severe disabilities, and delete products and services previously furnished by such agencies.

DATES: Comments must be received on or before: 8/14/2016.

ADDRESSES: Committee for Purchase From People Who Are Blind Or Severely Disabled, 1401 S. Clark Street, Suite 715, Arlington, Virginia 22202-4149.

FOR FURTHER INFORMATION CONTACT: For further information or to submit comments contact Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product:

NSN(s)—Product Name(s): MR 343—Handheld Spiralizer

Mandatory for: Military commissaries and exchanges in accordance with the Code of Federal Regulations, Chapter 51, 51-6.4

Mandatory Source(s) of Supply: Cincinnati Association for the Blind, Cincinnati, OH

Contracting Activity: Defense Commissary Agency

Distribution: C-List

Service:

Service Type: Facilities Maintenance Service

Mandatory for: U.S. Army, DPW, Fort Riley (excluding Residential Housing Areas and including Forbes Air Field, Topeka, KS), Fort Riley, KS

Mandatory Source(s) of Supply: Training, Rehabilitation, and Development Institute, Inc., San Antonio, TX

Contracting Activity: U.S. Army Corps of Engineers, Support Center, Huntsville, AL

Service Type: Administrative Support Service

Mandatory for: FAA, Regional Offices (except Burlington, MA) Fort Worth, TX

Mandatory Source of Supply: ServiceSource, Inc., Oakton, VA

Contracting Activity: Department of Transportation, Federal Aviation Administration Southwest Region, Logistics Division (ASW-55), Fort Worth, TX

Deletions

The following products and services are proposed for deletion from the Procurement List:

Products:

NSN(s)—Product Name(s):

8410-01-279-7730—Skirt, Gabardine, Lined, Marine Corps, Women's, Blue, 6 Short

8410-01-279-7731—Skirt, Gabardine, Lined, Marine Corps, Women's, Blue, 6R

8410-01-279-7732—Skirt, Gabardine, Lined, Marine Corps, Women's, Blue, 6L

8410-01-279-7733—Skirt, Gabardine, Lined, Marine Corps, Women's, Blue, 8S

8410-01-279-7734—Skirt, Gabardine, Lined, Marine Corps, Women's, Blue, 8R

8410-01-279-7735—Skirt, Gabardine, Lined, Marine Corps, Women's, Blue, 8L

8410-01-279-7736—Skirt, Gabardine, Lined, Marine Corps, Women's, Blue, 10S

8410-01-279-7737—Skirt, Gabardine, Lined, Marine Corps, Women's, Blue, 10R

8410-01-279-7738—Skirt, Gabardine, Lined, Marine Corps, Women's, Blue, 10L

8410-01-279-7739—Skirt, Gabardine, Lined, Marine Corps, Women's, Blue, 12S

8410-01-279-7740—Skirt, Gabardine, Lined, Marine Corps, Women's, Blue, 12R

8410-01-279-7741—Skirt, Gabardine, Lined, Marine Corps, Women's, Blue, 12L

8410-01-279-7742—Skirt, Gabardine, Lined, Marine Corps, Women's, Blue, 14S

8410-01-279-7743—Skirt, Gabardine, Lined, Marine Corps, Women's, Blue, 14R

8410-01-279-7744—Skirt, Gabardine, Lined, Marine Corps, Women's, Blue, 14L

8410-01-279-7745—Skirt, Gabardine, Lined, Marine Corps, Women's, Blue, 16S

8410-01-279-7746—Skirt, Gabardine, Lined, Marine Corps, Women's, Blue, 16R

8410-01-279-7747—Skirt, Gabardine, Lined, Marine Corps, Women's, Blue, 16L

8410-01-279-7748—Skirt, Gabardine, Lined, Marine Corps, Women's, Blue, 18S

8410-01-279-7749—Skirt, Gabardine, Lined, Marine Corps, Women's, Blue, 18R

8410-01-279-7750—Skirt, Gabardine, Lined, Marine Corps, Women's, Blue, 18L

8410-01-279-7751—Skirt, Gabardine, Lined, Marine Corps, Women's, Blue, 20S

8410-01-279-7752—Skirt, Gabardine, Lined, Marine Corps, Women's, Blue, 20R

8410-01-279-7753—Skirt, Gabardine, Lined, Marine Corps, Women's, Blue, 20L

Contracting Activity: Defense Logistics Agency Troop Support

NSN(s)—Product Name(s):

7520-01-385-7362—Pencil, Mechanical, Side Action, Green Barrel, 0.7 mm

7520-01-354-2305—Pencil, Mechanical, Push Action, Red Barrel and Lead, Extra Bold Point (1.1 mm)

Mandatory Source(s) of Supply: San Antonio Lighthouse for the Blind, San Antonio, TX

Contracting Activity: General Services Administration, New York, NY

NSN(s)—Product Name(s):

7510-01-443-2121—Toner, Cartridges, New

7510-00-NIB-0633—Skilcraft Toner Cartridge

7510-00-NIB-0642—Skilcraft Toner Cartridge

Mandatory Source(s) of Supply: Alabama Industries for the Blind, Talladega, AL

Contracting Activity: General Services Administration, New York, NY

NSN(s)—Product Name(s):

7045-01-599-5322—Glare Shield for iPhone

7045-01-599-5271—Glare Shield for Blackberry Bold

7045-01-599-5273—Glare Shield for Blackberry Storm2

7045-01-599-5290—Glare Shield for Blackberry Curve2

7045-01-599-5275—Universal PDA Glare Shield

7045-01-599-5287—Privacy Shield for iPhone

7045-01-599-5276—Privacy Shield for Blackberry Bold

7045-01-599-5278—Privacy Shield for Blackberry Storm2

7045-01-599-5285—Privacy Shield for Blackberry Curve2

7045-01-599-5282—Privacy Shield for PDA, Universal

Mandatory Source(s) of Supply: Wiscraft, Inc., Milwaukee, WI

Contracting Activity: General Services Administration, New York, NY

NSN(s)—Product Name(s):

7110-00-194-1611—Rotary Drafting Stool—Faux Leather

7110-00-281-4469—Rotary Drafting Stool—Upholstered

Contracting Activity: General Services Administration, Philadelphia, PA

NSN(s)—Product Name(s):

7210-00-NIB-0160—Pillow, Medical, White, 26″ x 20″

7210-00-NIB-0161—Pillow, Medical, Blue, 26″ x 20″

7210-00-NIB-0162—Pillow, Bed, Flame Resistant, Pink, 26″ x 20″

Mandatory Source(s) of Supply: Blind Industries & Services of Maryland, Baltimore, MD

Contracting Activity: Department of Veterans Affairs

NSN(s)—Product Name(s): 5970-01-245-7042—Tape, Electrical Insulation, Black, 1″ W x 108 ft

Mandatory Source(s) of Supply: Cincinnati Association for the Blind, Cincinnati, OH; Blind Industries & Services of Maryland, Baltimore, MD

NSN(s)—Product Name(s): 5970-01-560-5355—Tape, Insulation, Electrical, High Voltage, Black, 2″ x 108′

Mandatory Source(s) of Supply: Blind Industries & Services of Maryland, Baltimore, MD

Contracting Activity: Defense Logistics Agency Aviation

Services:

Service Type: Administrative/General Support Service

Mandatory for: GSA, Southwest Supply Center, 819 Taylor Street, Fort Worth, TX

Mandatory Source(s) of Supply: The Lighthouse for the Blind in New Orleans, Inc., New Orleans, LA

Contracting Activity: General Services Administration, FPDS Agency Coordinator

Service Type: Operation of Postal Service Center Service

Mandatory for: Luke Air Force Base, 14185 Falcon St, Luke AFB, AZ

Mandatory Source(s) of Supply: Arizona Industries for the Blind, Phoenix, AZ

Contracting Activity: Dept of the Air Force, FA7014 AFDW PK

Barry S. Lineback,
Director, Business Operations.

[FR Doc. 2016-16783 Filed 7-14-16; 8:45 am]

BILLING CODE 6353-01-P